DEPARTMENT OF COMMERCE

National Oceanic and Atmospheric Administration

Proposed Information Collection; Comment Request; Hazard Simplification WFO-Partner Focus Groups

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 21, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to NOAA National Weather Service Analyze, Forecast, and Support Office, Elliott Jacks, Chief of Forecast Services Division, 301-427-9351, Elliott.Jacks@noaa.gov.

SUPPLEMENTARY INFORMATION:

I. Abstract

This request is for a new information collection.

In response to public law H.R. 353, Section 406, NWS conducted several social science engagement activities to assess the current Watch, Warning, and Advisory (WWA) system. There was strong agreement for small adjustments to the current system and some support for an entirely new system. To further explore an alternative system, a public survey was conducted to test knowledge of the current system and a series of “prototypes” as an alternative to WWA. Drawing upon these results, NWS plans to conduct focus groups with its forecasters and partners to explore the opportunities and challenges of implementing a new alerting system.

II. Method of Collection

Focus groups will be conducted in person and/or by webinar.

III. Data

OMB Control Number: 0648-xxxx.

Form Number(s): None.

Type of Review: Regular (request for a new information collection).

Affected Public: Business or other for-profit organizations; Federal Government; State, Local, or Tribal Government.

Estimated Number of Respondents: 10-15 people per focus group, 3-4 focus groups per location, 6 locations (180-360 Total respondents).

Estimated Time per Response: Each focus group will last 3-4 hours.

Estimated Total Annual Burden Hours: 1,450.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 18, 2018.
Sarah Brabson,
NOAA PRA Clearance Officer.

[FR Doc. 2018-13467 Filed 6-21-18; 8:45 am]

BILLING CODE 3510-KE-P